DEPARTMENT OF AGRICULTURE

Forest Service

36 CFR Part 242

DEPARTMENT OF THE INTERIOR

Office of the Secretary

43 CFR Part 51

[267D0102DM DS61900000 DMSN00000.000000 DX61901; Docket # DOI-2025-0170]

Program Review—Subsistence Management for Public Lands in Alaska

AGENCY: Forest Service, Agriculture; Office of the Secretary, Interior.

ACTION: Extension of public comment period.

SUMMARY: This notice extends the public comment period for the review of the Federal Subsistence Management Program (Program) that was announced in the Federal Register on December 15, 2025. This extension provides additional time for stakeholders to submit comments.

DATES: The public comment period for the targeted review of the Program noticed in the Federal Register at 90 FR 57941 (December 15, 2025) is extended. Public comments now must be received on or before March 30, 2026.

ADDRESSES: Written comments and materials concerning the review may be submitted by one of the methods:

• Electronically: Go to the Federal eRulemaking Portal: https://www.regulations.gov. In the Search box, enter DOI-2025-0170, which is the docket number for this rulemaking action. Then, click on the Search button. On the resulting page, in the Search panel on the left side of the screen, under the document Type heading, check the Notice box to locate this document. You may submit a comment by clicking on “Comment.”

• Email: subsistence@ios.doi.gov.

• By hard copy: Submit by U.S. mail or hand delivery to Office of the Secretary, U.S. Department of the Interior, 4230 University Drive, Suite 300, Anchorage, Alaska 99508.

We can accept oral comments by telephone through an appointment request submitted by one of the above methods.

We intend to make all public comments publicly available. If you submit a comment via email, hard copy, or electronically, your entire comment, including any personally identifiable information, may be posted online.

FOR FURTHER INFORMATION CONTACT: Kara Moriarty, Senior Advisor to the Secretary of the Interior for Alaska Affairs, by email at kara_moriarty@ios.doi.gov or by phone at 907-786-3888 (toll free 800-478-1456).

SUPPLEMENTARY INFORMATION: The Office of the Senior Advisor to the Secretary of the Interior for Alaska Affairs and the Office of the Secretary of Agriculture are conducting a targeted review of the Federal Subsistence Management Program (Program) to ensure the Program effectively and efficiently meets the needs of Alaska residents and the Secretaries' obligations under title VIII of the Alaska National Interest Lands Conservation Act of 1980 (ANILCA). Additional information about the Program review is provided in the notice published at 90 FR 57941 (December 15, 2025).

The notice published today extends the public comment period for this targeted review. Public comments now must be received on or before March 30, 2026.

Troy W. Finnegan,
Deputy Assistant Secretary, Exercising the Delegated Authority of the Assistant Secretary—Policy, Management and Budget, Department of the Interior.
Michael K. Boren,
Under Secretary, Natural Resources and Environment, Department of Agriculture.

[FR Doc. 2026-02975 Filed 2-12-26; 8:45 am]

BILLING CODE 4334-13-P